DEPARTMENT OF AGRICULTURE

Rural Business-Cooperative Service

Inviting Rural Business Enterprise Grant Program Applications for Grants to Provide Technical Assistance for Rural Transportation Systems

AGENCY: Rural Business-Cooperative Service, USDA.

ACTION: Notice.

SUMMARY: The Rural Business-Cooperative Service (RBS), an Agency within the U.S. Department of Agriculture (USDA) Rural Development mission area, announces the availability of two individual grants: one single $500,000 grant from the rural transportation funds appropriated for the Rural Business Enterprise Grant (RBEG) program and another single $250,000 grant for Federally Recognized Native American Tribes' (FRNATs) (collectively “Programs”) from funds appropriated for the RBEG program. RBS will administer these awards under the RBEG program and 7 U.S.C. 1932(c)(2) for fiscal year (FY) 2014. Each grant is to be competitively awarded to an eligible applicant which is a qualified national non-profit organization. One grant is for the provision of technical assistance to rural transportation (RT) projects and the other grant will be for the provision of technical assistance to RT projects operated by FRNAT's only.

All applicants are responsible for any expenses incurred in developing their applications.

DATES: The deadline for receipt of applications in the USDA Rural Development State Office is no later than 4:30 p.m. (local time) on July 1, 2014. Applications received at a USDA Rural Development State Office after that date will not be considered for FY 2014 funding.

ADDRESSES: Entities wishing to apply for assistance should contact the appropriate USDA Rural Development State Office to receive copies of the application package. A list of the USDA Rural Development State Offices addresses and telephone numbers can be found online at: http://www.rurdev.usda.gov/StateOfficeAddresses.html.

FOR FURTHER INFORMATION CONTACT: Please contact the USDA Rural Development State Office in the State in which the project will be located.

SUPPLEMENTARY INFORMATION:

Overview

Federal Agency: Rural Business-Cooperative Service.

Solicitation Opportunity Title: Rural Business Enterprise Grants.

Announcement Type: Initial Announcement.

Catalog of Federal Domestic Assistance Number: 10.769.

Dates: Application Deadline: Completed applications must be received in the USDA Rural Development State Office no later than 4:30 p.m. (local time) on July 1, 2014, to be eligible for FY 2014 grant funding. Applications received after this date will not be eligible for FY 2014 grant funding.

I. Funding Opportunity Description

A. Purpose of the Program. The purpose of this program is to improve the economic conditions of rural areas.

B. Statutory Authority. This program is authorized under section 310B(c) of the Consolidated Farm and Rural Development Act (CONACT) (7 U.S.C. 1932(c)). Regulations are contained in 7 CFR part 1942, subpart G. The program is administered on behalf of RBS at the State level by the USDA Rural Development State Offices. Assistance provided to rural areas under the program may include the provision of on-site technical assistance to local and regional governments, public transit agencies, and related non-profit and for-profit organizations in rural areas; the development of training materials; and the provision of necessary training assistance to local officials and agencies in rural areas.

Awards under the RBEG passenger transportation program will be made on a competitive basis using specific selection criteria contained in 7 CFR part 1942, subpart G, and in accordance with section 310B(c)(2) of the CONACT. Information required to be in the application package includes Forms SF 424, “Application for Federal Assistance;” Form RD 1940-20, “Request for Environmental Information;” Scope of Work Narrative; Income Statement; Balance Sheet or Audit for previous 3 years; AD-1047, “Debarment/Suspension Certification;” AD-1048, “Certification Regarding Debarment, Suspension, Ineligibility and Voluntary Exclusion;” AD-1049, “Certification Regarding Drug-Free Workplace Requirements;” SF LLL, “Disclosure of Lobbying Activities;” RD 400-1, “Equal Opportunity Agreement;” RD 400-4, “Assurance Agreement;” a letter stating Board authorization to obtain assistance; and a letter certifying citizenship, as referenced in 7 CFR 1942.307(b). For the FRNAT grant, which must benefit FRNATs, at least 75 percent of the benefits of the project must be received by members of FRNATs. The project that scores the greatest number of points based on the RBEG selection criteria and the discretionary points will be selected for each grant.

Applicants must be qualified national non-profit organizations with experience in providing technical assistance and training to rural communities Nation-wide for the purpose of improving passenger transportation service or facilities. To be considered “national,” RBS requires a qualified organization to provide evidence that it operates RT assistance programming Nation-wide. There is not a requirement to use the grant funds in a multi-State area. Grants will be made to qualified national non-profit organizations for the provision of technical assistance and training to rural communities for the purpose of improving passenger transportation services or facilities.

Definitions

C. Definition of Terms. The definitions applicable to this Notice are published at 7 CFR 1942.304.

D. Application awards. The Agency will review, evaluate, and score applications received in response to this Notice based on the provisions in 7 CFR part 1942, subpart G and as indicated in this Notice.

II. Award Information

Type of Award: Grant.

Fiscal Year Funds: FY 2014.

Total Funding: $750,000.

Approximate Number of Awards: Two.

Average Award: One single $500,000 grant and another single $250,000 grant for FRNAT's.

Award Date: August 15, 2014, subject to the availability of funding.

III. Eligibility Information

A. Eligible Applicants

To be considered eligible, an entity must be a qualified national non-profit organization serving rural areas as evidenced in its organizational documents and demonstrated experience. Grants will be competitively awarded to qualified national non-profit organizations.

B. Cost Sharing or Matching

Matching funds are not required.

C. Other Eligibility Requirements

Applications will only be accepted from qualified national non-profit organizations to provide technical assistance for rural transportation.

D. Completeness Eligibility

Applications will not be considered for funding if they do not provide sufficient information to determine eligibility or are missing required elements.

IV. Fiscal Year 2014 Application and Submission Information:

A. Address to Request Application Package

For further information, entities wishing to apply for assistance should contact the USDA Rural Development State Office provided in the ADDRESSES section of this Notice to obtain copies of the application package.

Applicants are encouraged to submit applications through the Grants.gov Web site at: http://www.grants.gov. Applications may be submitted in either electronic or paper format. Users of Grants.gov will be able to download a copy of the application package, complete it off line, and then upload and submit the application via the Grants.gov Web site. Applications may not be submitted by electronic mail.

• When you enter the Grants.gov Web site, you will find information about submitting an application electronically through the site as well as the hours of operation. USDA

Rural Development strongly recommends that you begin the application process through Grants.gov in sufficient time to complete the application before the deadline date.

• You may submit all documents electronically through the Web site, including all

information typically included on the application and all necessary assurances and certifications.

• After electronically submitting an application through the Web site, the applicant

will receive an automatic acknowledgement from Grants.gov that contains a Grants.gov tracking number.

• USDA Rural Development may request that the applicant provide original signatures on forms at a later date.

• If applicants experience technical difficulties on the closing date and are unable to meet the deadline, you may submit a paper copy of your application to your respective Rural Development State Office. Paper applications submitted to a Rural Development State Office must meet the closing date and local time deadline.

• Please note that applicants can locate the downloadable application package for this program by the Catalog of Federal Domestic Assistance Number or FedGrants Funding Opportunity Number, which can be found at http://www.Grants.gov.

All applicants, whether filing applications through www.Grants.gov or by paper, must have a Dun and Bradstreet Data Universal Numbering System (DUNS) number which can be obtained at no cost via a toll-free request line at 1-866-705-5711 or at http://www.dnb.com.

B. Content and Form of Submission

An application must contain all of the required elements. Each application received in a USDA Rural Development State Office will be reviewed to determine if it is consistent with the eligible purposes contained in section 310B(c)(2) of the CONACT. Each selection priority criterion outlined in 7 CFR 1942.305(b)(3) must be addressed in the application. Failure to address any of the criteria will result in a zero-point score for that criterion and will impact the overall evaluation of the application. Copies of 7 CFR part 1942, subpart G, will be provided by any interested applicant making a request to a USDA Rural Development State Office.

All projects to receive technical assistance through these passenger transportation grant funds are to be identified when the applications are submitted to the USDA Rural Development State Office. Multiple project applications must identify each individual project, indicate the amount of funding requested for each individual project, and address the criteria as stated above for each individual project.

For multiple-project applications, the average of the individual project scores will be the score for that application.

C. Submission Dates and Times

Application Deadline Date: No later than 4:30 p.m. (local time) July 1, 2014

Explanation of Deadlines: Applications must be in the USDA Rural Development State Office by the deadline date.

V. Application Review Information

RBS will score applications based on the grant selection criteria and weights contained in 7 CFR part 1942, subpart G and will select grantees subject to the grantees satisfactory submission of the additional items required by 7 CFR part 1942, subpart G and the USDA Rural Development Letter of Conditions. The amount of an RT grant may be adjusted, in the RBS's discretion, to enable RBS to award RT grants to the two applications with the highest priority scores.

VI. Award Administration Information

A. Award Notices

Successful applicants will receive notification for funding from the USDA Rural Development State Office. Applicants must comply with all applicable statutes and regulations before the grant award will be approved. Unsuccessful applications will receive notification by mail.

B. Administrative and National Policy Requirements

Additional requirements that apply to grantees selected for this program can be found in 7 CFR part 1942, subpart G. Grantees must further comply with applicable provisions of 7 CFR parts 3015, 3016, 3019, and 3052.

VII. Agency Contacts

For general questions about this announcement, please contact your USDA Rural Development State Office provided in the ADDRESSES section of this Notice.

VIII. Paperwork Reduction Act

In accordance with the Paperwork Reduction Act, the paperwork burden has been cleared by the Office of Management and Budget (OMB) under OMB Control Number 0570-0022.

Federal Funding Accountability and Transparency Act

All applicants, in accordance with 2 CFR part 25, must have a DUNS number, which can be obtained at no cost via a toll-free request line at 1-866-705-5711 or online at http://fedgov.dnb.com/webform. Similarly, all applicants must be registered in the System for Award Management (SAM) prior to submitting an application. Applicants may register for the SAM at http://www.sam.gov. All recipients of Federal financial assistance are required to report information about first-tier sub-awards and executive total compensation in accordance with 2 CFR part 170.

Nondiscrimination Statement:

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and wish to file either an EEO or program complaint may contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: April 25, 2014.
Lillian E. Salerno,
Administrator, Rural Business-Cooperative Service.

[FR Doc. 2014-10084 Filed 5-1-14; 8:45 am]

BILLING CODE 3410-XY-P